DEPARTMENT OF LABOR

Employment and Training Administration

[NAFTA 04302]

Johnson and Johnson Medical, Inc., El Paso, Texas; Notice of Termination of Investigation

Pursuant to title V of the North American Free Trade Agreement Implementation Act (Pub. L. 103-182) concerning transitional adjustment assistance, hereinafter called NAFTA-TAA and in accordance with section 250(a), subchapter D, chapter 2, title II, of the Trade Act of 1974, as amended (19 USC 2331), an investigation was initiated on November 14, 2000, in response to a petition filed by a company official on behalf of workers at Johnson and Johnson Medical, Inc.

The petitioner has requested that the petition be withdrawn. Consequently, further investigation in this case would serve no purpose, and the investigation has been terminated.

Signed in Washington, DC this 12th day of December, 2000.
Linda Poole,
Certifying Officer, Division of Trade Adjustment Assistance.

[FR Doc. 00-33068 Filed 12-27-00; 8:45 am]

BILLING CODE 4510-30-M